DEPARTMENT OF HOUSING AND URBAN DEVELOPMENT

[Docket No. FR-5100-FA-02]

Announcement of Funding Awards for the Rural Housing and Economic Development Program; Fiscal Year 2007

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Rural Housing and Economic Development Program. This announcement contains the names of the awardees and the amounts of the awards made available by HUD.

FOR FURTHER INFORMATION CONTACT: Jackie L. Williams, PhD, Director, Office of Rural Housing and Economic Development, Office of Community Planning and Development, 451 Seventh Street, SW., Room 7137, Washington, DC 20410-7000; telephone (202) 708-2290 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The Rural Housing and Economic Development program was authorized by the Department of Veterans Affairs, Housing and Urban Development and Independent Agencies Appropriations Act of 1999. The competition was announced in the NOFA published March 13, 2007 (72 RF 11600). Applications were rated and selected for funding on the basis of selection criteria contained in that notice.

The Catalog of Federal Domestic Assistance number for this program is 14.250.

The Rural Housing and Economic Development Program is designed to build capacity at the state and local level for rural housing and economic development and to support innovative housing and economic development activities in rural areas. Eligible applicants are local rural non-profit organizations, community development corporations, federally recognized Indian tribes, state housing finance agencies, and state community and/or economic development agencies. The funds made available under this program were awarded competitively, through a selection process conducted by HUD.

For the Fiscal Year 2007 competition, a total of $16,800,000 was awarded to 58 projects nationwide.

In accordance with section 102(a)(4)(C) of the Department of Housing and Urban Development Reform Act of 1989 (103 Stat. 1987. 42 U.S.C. 3545), the Department is publishing the grantees and amounts of the awards in Appendix A to this document.

Dated: February 29, 2008.
Nelson R. Bregón,
General Deputy Assistant Secretary for Community Planning and Development.

Aleutian Housing Authority | AK | $300,000.00
AVCP Regional Housing Authority | AK | 300,000.00
Chilkoot Indian Association | AK | 185,851.00
Collaborative Solutions, Inc. | AL | 300,000.00
Hale Empowerment and Revitalization Organization | AL | 300,000.00
Community Resource Group, Inc. | AR | 300,000.00
Universal Housing Development Corporation | AR | 300,000.00
Chicanos Por La Causa, Inc. | AZ | 300,000.00
Big Pine Paiute Tribe | CA | 300,000.00
Community Assistance Network | CA | 300,000.00
Northern Circle Indian Housing Authority | CA | 300,000.00
Robinson Rancheria of Pomo Indians | CA | 300,000.00
Walking Shield, Inc. | CA | 300,000.00
National Council on Agricultural Life & Labor Research Fund | DE | 300,000.00
Central Florida Community Development Corporation | FL | 300,000.00
JCVision and Associates, Inc. | GA | 300,000.00
Homeward, Inc. | IA | 300,000.00
Community Ventures Corporation | KY | 300,000.00
Kentucky Highlands Investment Corporation | KY | 300,000.00
Purchase Area Housing Corporation | KY | 300,000.00
Young Adult Development in Action, Inc. | KY | 300,000.00
La. Tech. College Foundation Tallulah | LA | 300,000.00
Macon Ridge Community Development Corporation | LA | 243,800.00
Four Directions Development Corporation | ME | 299,992.00
Penobscot Indian Nation | ME | 300,000.00
Penquis CAP, Inc. | ME | 300,000.00
Huron Potawatomi, Inc. | MI | 299,825.00
Keweenaw Bay Indian Community | MI | 300,000.00
Little River Band of Ottawa Indians | MI | 300,000.00
Sault Ste. Marie Tribe of Chippewa Indians | MI | 300,000.00
Midwest Minnesota Community Development Corporation | MN | 180,000.00
Tunica County Community Development Coalition, Inc. | MS | 235,520.00
Browning Community Development Corporation | MT | 300,000.00
Crow Tribal Housing Authority | MT | 300,000.00
Haliwa-Saponi Indian Tribe | NC | 289,793.00
The Affordable Housing Group of North Carolina, Inc. | NC | 300,000.00
Ho-Chunk Community Development Corporation | NE | 300,000.00
Community Area Resource Enterprise (CARE 66) | NM | 299,125.00
Dona Ana County Colonias Development Council | NM | 203,590.00
New Mexico Mortgage Finance Authority | NM | 300,000.00
Pueblo of Pojoaque | NM | 300,000.00
San Juan Pueblo Tribal Council | NM | 300,000.00
JobStart Chautauqua | NY | 300,000.00
WSOS Community Action Commission | OH | 300,000.00
Citizen Potawatomi Community Development Corporation | OK | 300,000.00
Corporation De Desarrollo Economico de Ceiba, Cd | PR | 300,000.00
Community Development Corporation of Marlboro County | SC | 285,000.00
Spartanburg Leased Housing Corporation | SC | 300,000.00
Four Bands Community Fund, Inc. | SD | 300,000.00
Mazaska Owecaso Otipi Financial, Inc. | SD | 266,000.00
Community Development Corporation of Brownsville | TX | 300,000.00
El Paso Collaborative for Community and Economic Development | TX | 300,000.00
La Gloria Development Corporation | TX | 300,000.00
Motivation Education & Training, Inc. | TX | 300,000.00
Community Action Center | WA | 294,242.00
Diocese of Yakima Housing Services | WA | 300,000.00
Skokomish Tribal Nation | WA | 300,000.00
Wind River Development Fund | WY | 219,983.00
|  | $16,802,721.00

[FR Doc. E8-5456 Filed 3-18-08; 8:45 am]

BILLING CODE 4210-67-P